DEPARTMENT OF COMMERCE

National Oceanic and Atmospheric Administration

RIN 0648-XC279

Endangered and Threatened Species; Recovery Plans

AGENCY: National Marine Fisheries Service, National Oceanic and Atmospheric Administration, Commerce.

ACTION: Notice of Availability.

SUMMARY: The National Marine Fisheries Service (NMFS) announces the adoption of an Endangered Species Act (ESA) recovery plan for the South-Central California Coast Steelhead (Oncorhynchus mykiss) Distinct Population Segment (DPS), which spawn and rear in coastal rivers from the Pajaro River to Arroyo Grande Creek, California. The Final South-Central California Coast Steelhead Recovery Plan (Final Recovery Plan) is now available.

ADDRESSES: Electronic copies of the Final Recovery Plan are available online at http://www.westcoast.fisheries.noaa.gov/protected_species/salmon_steelhead/recovery_planning_and_implementation/south_central_southern_california_coast/south_central_southern_california_salmon_recovery_domain.html. A CD ROM of these documents can be obtained by emailing a request to Anthony.Spina@noaa.gov or by writing to NMFS at 501 W. Ocean Blvd., Suite 4200, Long Beach, CA 90802.

FOR FURTHER INFORMATION CONTACT: Anthony Spina, National Marine Fisheries Service, (562) 980-4045.

SUPPLEMENTARY INFORMATION:

Background

The ESA, as amended (16 U.S.C. 1531 et seq.) requires that we develop and implement recovery plans for the conservation and survival of threatened and endangered species under our jurisdiction, unless it is determined that such plans would not result in the conservation of the species. We designated the South-Central California Coast Steelhead Evolutionarily Significant Unit (ESU) as threatened in the Federal Register on August 18, 1997 (62 FR 43937). NMFS reaffirmed the listing of all West Coast steelhead populations and applied the DPS designation in place of the ESU designation on January 5, 2006 (72 FR 834).

We published a Notice of Availability of the proposed Draft Recovery Plan in the Federal Register on October 19, 2012 (77 FR 64316). NMFS held eight multi-day public meetings on the threats assessment and recovery actions, and two public meetings on the proposed draft Recovery Plan to solicit public comments. We received over 40 comments on the proposed draft Recovery Plan. We revised the proposed draft Recovery Plan based on the comments received, and this final version now constitutes the Recovery Plan for the South-Central California Coast Steelhead DPS.

The ESA requires that recovery plans incorporate, to the extent practicable: (1) Objective, measurable criteria which, when met, would result in a determination that the species is no longer threatened or endangered; (2) site-specific management actions necessary to achieve the plan's goals; and (3) estimates of the time required and costs to implement recovery actions. Our goal is to restore the threatened South-Central California Coast Steelhead DPS to the point where they are again secure, self-sustaining members of their ecosystems and no longer need the protections of the ESA.

The Final Recovery Plan provides background on the natural history of South-Central California Coast Steelhead DPS, current population trends, and the threats to their viability. The Final Recovery Plan lays out a recovery strategy to address the threats based on the best available science and includes goals that incorporate objective, measurable criteria which, when met, would result in a determination that the species may be removed from the Federal list of threatened and endangered species. The Final Recovery Plan is not regulatory, but presents guidance for use by agencies and interested parties to assist in the recovery of the South-Central California Coast Steelhead DPS. The Final Recovery Plan identifies substantive recovery actions needed to achieve recovery by addressing the systemic threats to the species, and provides a time-line and estimated costs of recovery actions. The strategy for recovery includes a linkage between conservation and management actions and an active research and monitoring program intended to fill data gaps and assess effectiveness of those actions. The Final Recovery Plan incorporates an adaptive management framework by which conservation and management actions and other elements will evolve and adapt as we gain information through research and monitoring; it describes the agency guidance for periodic review of the status of the species and the recovery plan. To address threats related to the species, the Final Recovery Plan acknowledges many of the significant efforts already underway to restore steelhead access to high quality habitat and to improve habitat previously degraded.

We expect the Final Recovery Plan to help us and other Federal agencies take a consistent approach to section 7 consultations under the ESA and to other ESA decisions. For example, the Final Recovery Plan will provide information on the biological context for the effects that a proposed action may have on the listed DPS. The information in the Final Recovery Plan on the natural history, threats, and potential limiting factors, and priorities for recovery can be used to help assess risks and conservation actions. Consistent with the adoption of this Final Recovery Plan for the South-Central California Coast Steelhead DPS, we will implement relevant actions for which we have authority, work cooperatively on implementation of other actions, and encourage other Federal and state agencies to implement recovery actions for which they have responsibility and authority.

Recovery of the South-Central California Coast Steelhead DPS will require a long-term effort in cooperation and coordination with Federal, state, tribal and local government agencies, and the community.

Conclusion

NMFS has reviewed the Plan for compliance with the requirements of the ESA section 4(f), determined that it does incorporate the required elements and is therefore adopting it as the Final Recovery Plan for South-Central California Coast Steelhead DPS.

Authority: 16 U.S.C. 1531 et seq.

Dated: December 18, 2013.
Angela Somma,
Division Chief, Endangered Species Division, Office of Protected Resources, National Marine Fisheries Service.

[FR Doc. 2013-30478 Filed 12-20-13; 8:45 am]

BILLING CODE 3510-22-P